DEPARTMENT OF THE INTERIOR

National Park Service

Notice of Inventory Completion for Native American Human Remains and an Associated Funerary Object in the Possession of the Museum of Indian Arts and Culture/Laboratory of Anthropology, Museum of New Mexico, Santa Fe, NM

AGENCY: National Park Service

ACTION: Notice

Notice is hereby given in accordance with provisions of the Native American Graves Protection and Repatriation Act (NAGPRA), 43 CFR 10.9, of the completion of an inventory of human remains and an associated funerary object in the possession of the Museum of Indian Arts and Culture/Laboratory of Anthropology, Museum of New Mexico, Santa Fe, NM.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by professional staff in consultation with representatives of the Pueblo of Acoma, New Mexico; the Hopi Tribe of Arizona; the Pueblo of Isleta, New Mexico; the Pueblo of Jemez, New Mexico; the Kiowa Indian Tribe of Oklahoma; the Mescalero Apache Tribe of the Mescalero Reservation, New Mexico; the Pueblo of Santo Domingo, New Mexico; the Pueblo of Taos, New Mexico; the Wichita and Affiliated Tribes (Wichita, Keechi, Waco, and Tawakonie), Oklahoma; Ysleta Del Sur Pueblo of Texas; and the Zuni Tribe of the Zuni Reservation, New Mexico.

In 1941, human remains representing 14 individuals were recovered from site LA 83 (Pueblo Pardo Ruin or Grey Town), Socorro County, NM during legally authorized excavations conducted as part of a field school program through Washington and Jefferson College. No known individuals were identified. The one associated funerary object is one lot of corn kernels and faunal remains.

Based on burial location and associated funerary objects, these individuals have been identified as Native American. Based on material cultural and architectural features, site LA 83 has been dated to the Pueblo III to Pueblo IV period (A.D. 1300-1630).

During 1935-6, 1939-40, and in 1980, human remains representing a minimum of eight individuals were recovered from site LA 95 (Quarai site), Torrance County, NM during legally authorized excavations conducted as part of stabilization efforts sponsored variously by the Museum of New Mexico, the School of American Research, the University of New Mexico, and the Works Progress Administration. No known individuals were identified. No associated funerary objects are present.

Based on archeological context, these individuals have been identified as Native American. Based on material culture, architectural features, and documentary evidence, site LA 95 has been dated to the Pueblo III through the early historic period (A.D. 1100-1680).

During 1944-1945, human remains representing a minimum of seven individuals were recovered from site LA 97 (Abo site), Torrance County, NM during legally authorized excavations conducted by the Museum of New Mexico. No known individuals were identified. No associated funerary objects are present.

Based on archeological context, these individuals have been identified as Native American. Based on material culture and architectural features, site LA 97 has been dated to the Pueblo IV through the early historic period (A.D. 1300-1680).

Based on archeological context and regional cultural chronology, these sites have been identified as Ancestral Puebloan. Historical evidence also records these sites as trade centers that enjoyed frequent contact with non-Puebloan tribes.

Based on the above-mentioned information, officials of the Museum of Indian Arts and Culture have determined that, pursuant to 43 CFR 10.2 (d)(1), the human remains listed above represent the physical remains of a minimum of 29 individuals of Native American ancestry. Officials of the Museum of Indian Arts and Culture also have determined that, pursuant to 43 CFR 10.2 (d)(2), the one object listed above is reasonably believed to have been placed with or near individual human remains at the time of death or later as part of the death rite or ceremony. Lastly, officials of the Museum of Indian Arts and Culture have determined that, pursuant to 43 CFR 10.2 (e), there is a relationship of shared group identity that can be reasonably traced between these Native American human remains and associated funerary objects and the Pueblo of Acoma, New Mexico; the Hopi Tribe of Arizona; the Pueblo of Isleta, New Mexico; the Pueblo of Jemez, New Mexico; the Pueblo of Santo Domingo, New Mexico; the Pueblo of Taos, New Mexico; Ysleta Del Sur Pueblo of Texas; the Zuni Tribe of the Zuni Reservation, New Mexico; and a non-Federally recognized Indian group, the Piro-Manso-Tiwa Tribe. This notice has been sent to officials of the Pueblo of Acoma, New Mexico; the Hopi Tribe of Arizona; the Pueblo of Isleta, New Mexico; the Pueblo of Jemez, New Mexico; the Kiowa Indian Tribe of Oklahoma; the Mescalero Apache Tribe of the Mescalero Reservation, New Mexico; the Pueblo of Santo Domingo, New Mexico; the Pueblo of Taos, New Mexico; the Wichita and Affiliated Tribes (Wichita, Keechi, Waco, and Tawakonie), Oklahoma; Ysleta Del Sur Pueblo of Texas; and the Zuni Tribe of the Zuni Reservation, New Mexico. Representatives of any other Indian tribe that believes itself to be culturally affiliated with these human remains and associated funerary object should contact Dr. Duane Anderson, Director, Museum of Indian Arts and Culture, P.O. Box 2087, Santa Fe, NM 87504, telephone (505) 476-1251, before September 28, 2000. Repatriation of the human remains and associated funerary object to the culturally affiliated tribes may begin after that date if no additional claimants come forward.

Dated: August 10, 2000.
John Robbins,
Assistant Director, Cultural Resources Stewardship and Partnerships.

[FR Doc. 00-21974 Filed 8-28-00; 8:45 am]

BILLING CODE 4310-70-F